DEPARTMENT OF TRANSPORTATION

Maritime Administration

[Docket No. MARAD-2019-0205]

Request for Comments on the Approval of a Previously Approved Information Collection: Merchant Marine Medals and Awards

AGENCY: Maritime Administration, DOT.

ACTION: Notice and request for comments.

SUMMARY: The Maritime Administration (MARAD) invites public comments on our intention to request the Office of Management and Budget (OMB) approval to renew an information collection. The information to be collected will be used by MARAD personnel to process and verify requests for service awards. We are required to publish this notice in the Federal Register by the Paperwork Reduction Act of 1995.

DATES: Comments must be submitted on or before February 24, 2020.

ADDRESSES: You may submit comments [identified by Docket No. MARAD-2019-0205] through one of the following methods:

• Federal Rulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Deveeda Midgette, 202-366-2354, Office of Sealift Support, Maritime Administration, U.S. Department of Transportation, 1200 New Jersey Avenue SE, Washington, DC 20590.

SUPPLEMENTARY INFORMATION:

Title: Merchant Marine Medals and Awards.

OMB Control Number: 2133-0506.

Type of Request: Renewal of a previously approved collection.

Abstract: This collection of information provides a method of awarding merchant marine medals and decorations to masters, officers, and crew members of U.S. ships in recognition of their service in areas of danger during the operations by the Armed Forces of the United States in World War II, Korea, Vietnam, and Operation Desert Storm.

Respondents: Master, officers and crew members of U.S. ships.

Affected Public: Individuals or Households.

Estimated Number of Respondents: 550.

Estimated Number of Responses: 550.

Estimated Hours per Response: 1.

Annual Estimated Total Annual Burden Hours: 550.

Frequency of Response: Annually,

(Authority: The Paperwork Reduction Act of 1995; 44 U.S.C. Chapter 35, as amended; and 49 CFR 1.93.)

By Order of the Maritime Administrator.
Dated: December 18, 2019.
T. Mitchell Hudson, Jr.,
Secretary, Maritime Administration.

[FR Doc. 2019-27680 Filed 12-23-19; 8:45 am]

BILLING CODE 4910-81-P